Proclamation 10801 of August 30, 2024

National Wilderness Month, 2024

By the President of the United States of America

A Proclamation

America's beautiful natural landscapes are part of our Nation's identity, history, and heritage. One century ago, the Gila Wilderness was established as our country's first designated wilderness area, protecting this national treasure and beginning a new era of Federal conservation. Across our Nation, designated wilderness areas protect some of our most precious sites—soaring mountains, winding rivers, expansive deserts, and lush forests. These special places unite us, inspire us, and connect us to something bigger than ourselves. During National Wilderness Month, we recommit to the essential work of protecting our Earth, celebrate our country's natural places, and continue our work to ensure that every community has access to nature's gifts.

By conserving our wilderness, we not only protect key pieces of our Nation's history—we also protect the livelihoods of people who depend on our lands and waters. We protect and preserve Tribal communities' sacred landscapes. We sustain wildlife and conserve landscapes to help fight climate change and improve our Nation's resilience. And we ensure that generations of Americans will be able to enjoy the beauty and power of our country's wilderness today and into the future.

That is why my Administration set the most ambitious conservation goal ever—committing to conserve at least 30 percent of all our Nation's lands and waters by 2030. That goal is at the heart of my “America the Beautiful” initiative to support locally led, voluntary conservation and restoration efforts across the country. To that end, my Administration has made historic investments to protect our shared natural heritage, such as investing $1.4 billion in ecosystem restoration and resilience through the Bipartisan Infrastructure Law.

To date, my Administration has conserved more than 41 million acres of our Nation's lands and waters. I restored protections for the desert buttes of both the Bears Ears National Monument and the Grand Staircase-Escalante National Monument in Utah and the underwater canyons of Northeast Canyons and Seamounts Marine National Monument. I established six new national monuments, including the Baaj Nwaavjo I'tah Kukveni in Arizona and the Avi Kwa Ame National Monument in Nevada. And I expanded the San Gabriel Mountains National Monument and the Berryessa Snow Mountain National Monument in California.

Further, I withdrew the United States Arctic Ocean from new oil and gas leasing. And I took executive action to consider designating more than 700,000 square miles of the Pacific Ocean southwest of Hawaii as a new National Marine Sanctuary, which could make this one of the largest marine protected areas on the planet.

My Administration is taking action to harness our natural resources in the fight against climate change; protect our forests; and improve the health of our Nation's lands, waters, and wildlife. Together, we can continue to advance locally led and locally supported proposals for conserving our most unique and beautiful lands and waters. And we can continue our partnership with Tribal Nations, working together as co-stewards and ensuring that Indigenous Knowledge is respectfully included in the care of our natural heritage.

During National Wilderness Month, may we celebrate the people who steward and care for our Nation's designated wilderness areas. And may we continue to protect and conserve these areas so that generations of Americans will know their beauty, serenity, and power.

NOW, THEREFORE, I, JOSEPH R. BIDEN JR., President of the United States of America, by virtue of the authority vested in me by the Constitution and the laws of the United States, do hereby proclaim September 2024 as National Wilderness Month. I encourage all Americans to experience our Nation's outdoor heritage, to recreate responsibly and leave no trace, to celebrate the value of preserving an enduring wilderness, and to strengthen our commitment to protecting these vital lands and waters now and for future generations.

IN WITNESS WHEREOF, I have hereunto set my hand this thirtieth day of August, in the year of our Lord two thousand twenty-four, and of the Independence of the United States of America the two hundred and forty-ninth.

[FR Doc. 2024-20130

Filed 9-4-24; 8:45 am]

Billing code 3395-F4-P